DEPARTMENT OF LABOR

Employment and Training Administration

[TA-W-51,001]

e-Gain Communications Corporation, Novato, CA; Notice of Revised Determination on Reconsideration

By application of April 8, 2003, a petitioner requested administrative reconsideration regarding the Department's Negative Determination Regarding Eligibility to Apply for Worker Adjustment Assistance, applicable to the workers of the subject firm.

The initial investigation resulted in a negative determination issued on March 18, 2003, based on the finding that the petitioning workers did not produce an article within the meaning of section 222 of the Act. The denial notice was published in the Federal Register on April 2, 2003 (68 FR 16094).

The petitioner alleges that they produced a product.

Upon further review during the reconsideration process, and contact with the company, it became apparent that the subject facility workers did produce a product (specifically, software which was marketed for retail sale) within the meaning of section 222 of the Act.

In addition, it was revealed that the company shifted production of competitive software to India and subsequently began importing a significant portion of this production to U.S. customers during the relevant period.

The investigation further revealed that employment declined at the subject firm during the relevant period.

Conclusion

After careful review of the additional facts obtained on reconsideration, I conclude that increased imports of articles like or directly competitive with those produced at e-Gain Communications Corporation, Novato, California, contributed importantly to the declines in sales or production and to the total or partial separation of workers at the subject firm. In accordance with the provisions of the Act, I make the following certification:

All workers of e-Gain Communications Corporation, Novato, California, who became totally or partially separated from employment on or after February 18, 2002 through two years from the date of this certification, are eligible to apply for adjustment assistance under section 223 of the Trade Act of 1974.

Signed in Washington, DC this 8th day of August 2003.
Elliott S. Kushner,
Certifying Officer, Division of Trade Adjustment Assistance.

[FR Doc. 03-21281 Filed 8-19-03; 8:45 am]

BILLING CODE 4510-30-P